DEPARTMENT OF VETERANS AFFAIRS

Rehabilitation Research and Development Service Scientific Merit Review Board, Notice of Meeting

The Department of Veterans Affairs (VA) gives notice under Public Law 92-463 (Federal Advisory Committee Act) that subcommittees of the Rehabilitation Research and Development Service Scientific Merit Review Board will meet on August 7-9 and 13-15, 2012, at the Sheraton Crystal City Hotel, 1800 Jefferson Davis Highway, Arlington, VA, from 8 a.m. to 5 p.m. each day, except on August 13, 2012. The Career Development Award Program subcommittee will meet on this day from 7 p.m. to 9 p.m. The following subcommittees of the Board will meet to evaluate merit review applications:

August 7 Aging and Neurodegenerative Disease; Rehabilitation Engineering and Prosthetics/Orthotics; and Spinal Cord Injury.

August 7-8 Brain Injury: Traumatic Brain Injury and Stroke; Musculoskeletal/Orthopedic Rehabilitation; and Psychological Health and Social Reintegration.

August 9 Rehabilitation Engineering and Prosthetics/Orthotics; and Research Career Scientists.

August 13-15 Career Development Award Program.

August 14 Brain Injury: Traumatic Brain Injury and Stroke.

August 14-15 Psychological Health and Social Reintegration; Regenerative Medicine; and Sensory Systems/Communication.

The purpose of the Board is to review rehabilitation research and development applications and advise the Director, Rehabilitation Research and Development Service, and the Chief Research and Development Officer on the scientific and technical merit, the mission relevance, and the protection of human and animal subjects.

A general session will be held on August 7 and 14 from 8 a.m. to 9 a.m. to cover administrative matters and to discuss the general status of the program. This portion of the meeting is open to the public. The remaining portion of each subcommittee meeting will be closed to the public for the discussion, examination, reference to, and oral review of the research applications and critiques. No oral or written comments will be accepted from the public for either portion of the meetings.

During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

Those who plan to attend the general session should contact Tiffany Asqueri, Designated Federal Officer, Rehabilitation Research and Development Service, at Department of Veterans Affairs (10P9R), 810 Vermont Avenue NW., Washington, DC 20420, or email at tiffany.asqueri@va.gov. For further information, please call Mrs. Asqueri at (202) 443-5757.

By Direction of the Secretary.
Dated: July 3, 2012.
Vivian Drake,
Committee Management Officer.

[FR Doc. 2012-16711 Filed 7-6-12; 8:45 am]

BILLING CODE P